ENVIRONMENTAL PROTECTION AGENCY

[OPP-00659; FRL-6557-4]

National Assessment of the Worker Protection Program—Workshop #1

AGENCY: Environmental Protection Agency (EPA).

ACTION: Notice of public meeting.

SUMMARY: The National Assessment of the Worker Protection Program - Workshop #1 will be held in Austin, Texas. The purpose of this meeting is to initiate a nationwide assessment of the agricultural worker protection program. The regulation (40 CFR 170) that implements this program was fully implemented in 1995. The Office of Pesticide Programs, in this national assessment, will examine the regulation, the implementation and effectiveness of its provisions, the enforcement at the state level, and the possible future directions for the program. This initial workshop is an opportunity for EPA, states, agricultural employers and worker representatives to engage in problem solving discussions on major aspects of the regulation. This workshop will be the first in a series of workshops that will offer participants an opportunity to work with the Agency to define the components and framework for the comprehensive national program assessment of the agricultural worker protection program.

DATES: June 6-7, 2000. The workshop will begin at 8 a.m. and end at 6 p.m.

ADDRESSES: The meeting will be held at the Austin Marriott at the Capitol, 701 East 11th St., Austin, TX 78701.

FOR FURTHER INFORMATION CONTACT: Michael Walsh, U.S. EPA Office of Pesticide Programs (7506C), 1200 Pennsylvania Avenue NW, Washington, DC 20460. Telephone: (703) 308-2972. Fax: (703) 308-2962.

SUPPLEMENTARY INFORMATION:

I. Does this Action Apply to Me?

This action is directed to the public in general, however, the size of the meeting facilities could limit the number of participants. This action may be of interest to farm worker groups, agricultural employers, state governments, county extension services, and pesticide product manufacturers. If you have any questions regarding the applicability of this action to a particular entity, consult the party listed under FOR FURTHER INFORMATION CONTACT.

II. How Can I Get Copies of this Document?

Electronically. You may obtain electronic copies of this document, and certain other related documents that might be available electronically, from the EPA Internet Home Page at http://www.epa.gov/. You may also go directly to the Federal Register listings at http://www.epa.gov/fedrgstr/.

III. How Can I Participate in this Meeting and is there a Deadline?

Yes. You may request to participate in this meeting and register by phone, by fax, through the mail, or electronically by no later than May 20, 2000. Please contact Meetings Management, Inc., P.O. Box 30045, Alexandria, Virginia 22310, Tel: (703) 922-7944, Fax: (703) 922-7780, E-mail: Mmagnini@BellAtlantic.net.

List of Subjects

Environmental protection.

Dated: April 24, 2000.
Anne E. Lindsay,
Director, Field and External Affairs Division, Office of Pesticide Programs.

[FR Doc. 00-10591 Filed 4-27-00; 8:45 am]

BILLING CODE 6560-50-F